NATIONAL AERONAUTICS AND SPACE ADMINISTRATION

[Notice (03-066)]

Notice of Prospective Patent License.

AGENCY: National Aeronautics and Space Administration.

ACTION: Notice of prospective patent license.

SUMMARY: NASA hereby gives notice that HyPerComp Engineering, Inc, of Brigham City, Utah, has applied for a partially exclusive license to practice the inventions disclosed in NASA Case No. MFS-31727-1 entitled “Impact And Fire Resistant Coating For Pressure Vessels,” NASA Case No. MFS-31838-1 entitled “Improved Pressure Vessel Impact Resistance Utilizing Filament Wound Hybrid Fibers,” and MFS-31841-1 entitled “Composite Over-Wrap Material For Impact Resistant Pressure Vessels At Low Temperature.” HyPerComp Engineering, Inc. may practice the invention in the field of use to design, manufacture and sell specialty high-pressure aluminum lined filament wound composite over-wrapped vessels. Written objections to the prospective grant of a license should be sent to Mr. James J. McGroary, Patent Counsel/LS01, (Mareb shall Space Flight Center, Huntsville, AL 35812. NASA has not yet made a determination to grant the requested license and may deny the requested license even if no objections are submitted within the comment period.

DATES: Responses to this notice must be received by June 30, 2003.

FOR FURTHER INFORMATION CONTACT: Sammy A. Nabors, Technology Transfer Department/CD30, Marshall Space Flight Center, Huntsville, AL 35812, (256) 544-5226.

Dated: May 30, 2003.
Robert M. Stephens,
Deputy General Counsel.

[FR Doc. 03-14940 Filed 6-12-03; 8:45 am]

BILLING CODE 7510-01-P